DEPARTMENT OF HOMELAND SECURITY

Coast Guard

33 CFR Parts 101 and 102

[USCG-2003-14792]

RIN 1625-AA69

Implementation of National Maritime Security Initiatives; Correction

AGENCY: Coast Guard, DHS.

ACTION: Correcting amendments.

SUMMARY: On July 1, 2003, the Coast Guard published a temporary interim rule with request for comments and notice of meeting in the Federal Register concerning the implementation of national maritime security initiatives. This document contains corrections to that rule.

DATES: Effective on July 1, 2003.

FOR FURTHER INFORMATION CONTACT: For information concerning this document, write or call Commander Suzanne Englebert (G-M-1), U.S. Coast Guard by telephone 202-267-1103, toll-free telephone 1-800-842-8740 ext. 7-1103, or by electronic mail msregs@comdt.uscg.mil. If you have questions on viewing or submitting material to the docket, call Dorothy Beard, Chief, Dockets, Department of Transportation, at telephone 202-366-5149.

SUPPLEMENTARY INFORMATION: The Coast Guard published a temporary interim rule with request for comments and notice of meeting in the Federal Register on July 1, 2003, (68 FR 39240). The rule contained typographical errors and omissions that may prove to be misleading and therefore need to be corrected.

Corrections to the Preamble

In the temporary interim rule FR Doc. 03-16186 published in the Federal Register on July 1, 2003, make the following corrections:

1. On page 39252, in the third column, on line 17, in the Web site address, correct “dot.tsa” to read “dottsa”.

2. On page 39269, in the first column, in the second paragraph, on line 9, correct the words “Online Reporting” to read “Web Reports”.

3. On page 39274, in the first column, in the second footnote, in the Web site address, correct the word “statististcs” to read “statistics”.

Corrections to the Regulatory Text

PART 101—GENERAL PROVISIONS

1. Correct part 101 by revising the authority citation to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

Dated: July 11, 2003.
T. H. Gilmour,
Rear Admiral, U.S. Coast Guard, Assistant Commandant for Marine Safety, Security and Environmental Protection.

[FR Doc. 03-17978 Filed 7-15-03; 8:45 am]

BILLING CODE 4910-15-P